DEPARTMENT OF THE INTERIOR

National Park Service

[NPS-WASO-PWR-10709; 9475-5000-NZY]

Federal Register Notification of Redesignation of Potential Wilderness as Wilderness, Ross Lake National Recreation Area, North Cascades National Park Service Complex, Washington

AGENCY: National Park Service, Interior.

ACTION: Notice of Redesignation of Potential Wilderness as Wilderness.

SUMMARY: The 1988 Washington Parks Wilderness Act (Pub. L. 100-668, November 16, 1988) designated 634,614 acres of North Cascades National Park, Ross Lake National Recreation Area, and Lake Chelan National Recreation Area as the Stephen Mather Wilderness. Due to the potential for hydroelectric development, the Act also designated an additional 5,226 acres of potential wilderness within Ross Lake National Recreation Area, including approximately 1,667 acres of land within the Lower Big Beaver Valley and 3,559-acres of the Lower Thunder Creek Valley.

Seattle City Light (SCL), a hydroelectric utility with the City of Seattle, retained rights, through Section 505 of the Act of October 2, 1968 (82 Stat. 930; 16 U.S.C. 90d-4) as amended under Title II, Section 202 of Public Law 100-668, for hydroelectric development

“* * *in the lands and waters within the Skagit River Hydroelectric Project, Federal Energy and Regulatory Commission Project 53, including the proposed Copper Creek, High Ross, and Thunder Creek elements of the project”.

In April 2008, SCL formally abandoned hydroelectric development plans for the potential wilderness area within the Lower Thunder Creek Valley after determining the proposal was not economically or environmentally feasible. Consequently there are no current, or proposed, uses of the 3,559 acres of Thunder Creek Potential Wilderness which are incompatible with wilderness designation.

Title IV, Section 2 of the Washington Parks Wilderness Act authorized the Secretary of the Interior to designate administratively as wilderness any lands designated as potential wilderness upon publication in the Federal Register of a notice that all uses thereon that are inconsistent with the Wilderness Act of 1964 (Pub. L. 88-577) have ceased or that non-Federal interests in land have been acquired.

Accordingly, this notice hereby converts the 3,559 acres of potential wilderness in Lower Thunder Creek Valley, within North Cascades National Park Service Complex, to designated wilderness. The 3,559 acres shall be added to the 634,614 acres of designated wilderness within the Stephen Mather Wilderness, and managed in accordance with the Wilderness Act of 1964. The 1,667 acres of land within the Lower Big Beaver Valley are not affected by this Notice.

Dated: July 25, 2012.
Jonathan B. Jarvis,
Director, National Park Service.

[FR Doc. 2012-22722 Filed 9-13-12; 8:45 am]

BILLING CODE 4312-GX-P